DEPARTMENT OF STATE

[Public Notice 7635]

60-Day Notice of Proposed Information Collection: DS-230, Application for Immigrant Visa and Alien Registration, OMB Number 1405-0015

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Application for Immigrant Visa and Alien Registration.

• OMB Control Number: 1405-0015.

• Type of Request: Revision of a Currently Approved Collection.

• Originating Office: Bureau of Consular Affairs, Department of State (CA/VO).

• Form Number: DS-230.

• Respondents: Immigrant visa applicants.

• Estimated Number of Respondents: 672,000 per year.

• Estimated Number of Responses: 672,000 per year.

• Average Hours per Response: 2 hours.

• Total Estimated Burden: 1,344,000 hours per year.

• Frequency: Once per respondent.

• Obligation to Respond: Required to Obtain or Retain a Benefit.

DATES: The Department will accept comments from the public up to 60 days from October 5, 2011.

ADDRESSES: You may submit comments by any of the following methods:

• E-mail: ClausSR@state.gov.

• Mail (paper, disk, or CD-ROM submissions): Chief, Legislation and Regulation Division, Visa Services—DS-230 Reauthorization, 2401 E Street, NW., Washington, DC 20520-30106.

• Fax: (202) 663-3898.

You must include the DS form number (if applicable), information collection title, and OMB control number in any correspondence.

FOR FURTHER INFORMATION CONTACT: Direct requests for additional information regarding the collection listed in this notice, including requests for copies of the proposed information collection and supporting documents, to Stefanie Claus of the Office of Visa Services, U.S. Department of State, 2401 E. Street, NW., L-603, Washington, DC 20522, who may be reached at (202) 663-2910 or claussr@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The DS-230 is used to determine the eligibility of aliens applying for immigrant visas that have not completed the DS-260, Online Immigrant Visa Form.

Methodology: The information will be collected in person at posts.

Dated: September 20, 2011.
Edward J. Ramotowski,
Deputy Assistant Secretary, Acting, Bureau of Consular Affairs, Department of State.

[FR Doc. 2011-25743 Filed 10-4-11; 8:45 am]

BILLING CODE 4710-06-P